DEPARTMENT OF COMMERCE

International Trade Administration

[A-570-880]

Barium Carbonate from the People's Republic of China: Final Results of the Expedited Sunset Review of the Antidumping Duty Order

AGENCY: Import Administration, International Trade Administration, Department of Commerce.

SUMMARY: On September 2, 2008, the Department of Commerce (“Department”) initiated a sunset review of the antidumping duty order on barium carbonate from the People's Republic of China (“PRC”) pursuant to section 751(c) of the Tariff Act of 1930, as amended (“Act”). See Initiation of Five-year (“Sunset”) Review, 73 FR 51275 (September 2, 2008) (“Sunset Initiation”); see also Antidumping Duty Order: Barium Carbonate from the People's Republic of China, 68 FR 56619 (October 1, 2003) (“Order”). On September 16, 2008, Chemical Products Corporation (“CPC”), the petitioner in the original barium carbonate investigation, notified the Department that it intended to participate in the sunset review. The Department did not receive a substantive response from any respondent party. Based on the notice of intent to participate and adequate response filed by the domestic interested party, and the lack of response from any respondent interested party, the Department conducted an expedited sunset review of the Order pursuant to section 751(c)(3)(B) of the Act and 19 C.F.R. 351.218(e)(1)(ii)(C)(2). As a result of this sunset review, the Department finds that revocation of the Order would likely lead to continuation or recurrence of dumping, at the levels indicated in the “Final Results of Sunset Review” section of this notice, infra.

EFFECTIVE DATE: January 9, 2009.

FOR FURTHER INFORMATION CONTACT: Hallie Noel Zink; AD/CVD Operations, Import Administration, International Trade Administration, U.S. Department of Commerce, 14th Street and Constitution Avenue, NW, Washington, DC 20230; telephone: 202-482-6907.

SUPPLEMENTARY INFORMATION:

Background

On September 2, 2008, the Department initiated a sunset review of the order on barium carbonate pursuant to section 751(c) of the Act. See Sunset Initiation, 73 FR 51275. On September 16, 2008, the Department received a timely notice of intent to participate in the sunset review from CPC, pursuant to 19 C.F.R. 351.218(d)(1)(i). In accordance with 19 C.F.R. 351.218(d)(1)(ii)(A), CPC claimed interested party status under section 771(9)(C) of the Act as a producer of the domestic like product.

On October 2, 2008, CPC filed a substantive response in the sunset review, within the 30-day deadline as specified in 19 C.F.R. 351.218(d)(3)(i). The Department did not receive a substantive response from any respondent interested party in the sunset review. As a result, pursuant to section 751(c)(3)(B) of the Act and 19 C.F.R. 351.218(e)(1)(ii)(C)(2), the Department conducted an expedited sunset review of the Order.

Scope of the Order

The merchandise covered by this order is barium carbonate, regardless of form or grade. The product is currently classifiable under subheading 2836.60.0000 of the Harmonized Tariff Schedule of the United States (“HTSUS”). Although the HTSUS subheading is provided for convenience and customs purposes, the written description of the scope of this proceeding is dispositive.

Analysis of Comments Received

A complete discussion of all issues raised in these sunset reviews is addressed in the accompanying Issues and Decision Memorandum, which is hereby adopted by this notice. See “Issues and Decision Memorandum for the Final Results in the Expedited Sunset Review of the Antidumping Duty Order on Barium Carbonate from the People's Republic of China,” from Stephen J. Claeys, Deputy Assistant Secretary, to David M. Spooner, Assistant Secretary for Import Administration, dated December 31, 2008 (“I&D Memo”). The issues discussed in the accompanying I&D Memo include the likelihood of continuation or recurrence of dumping and the magnitude of the dumping margin likely to prevail if the Order was revoked. Parties can obtain a public copy of the I&D Memo on file in the Central Records Unit, room 1117, of the main Commerce building. In addition, a complete public version of the I&D Memo can be accessed directly on the Web at http://ia.ita.doc.gov/frn. The paper copy and electronic version of the I&D Memo are identical in content.

Final Results of Sunset Review

The Department determines that revocation of the Order on barium carbonate would likely lead to continuation or recurrence of dumping at the rates listed below:

Manufacturers/Exporters/Producers | Weighted-Average Margin (Percent)
Qingdao Red Star Chemical Import & Export Co., Ltd. | 34.44
PRC-Wide Entity | 81.30

Notification Regarding Administrative Protective Order

This notice also serves as the only reminder to parties subject to administrative protective order (“APO”) of their responsibility concerning the return or destruction of proprietary information disclosed under APO in accordance with 19 C.F.R. 351.305. Timely notification of the return or destruction of APO materials or conversion to judicial protective order is hereby requested. Failure to comply with the regulations and terms of an APO is a violation which is subject to sanction.

We are issuing and publishing these results and notice in accordance with sections 751(c), 752, and 777(i)(1) of the Act.

December 31, 2008.
David M. Spooner,
Assistant Secretary for Import Administration.

[FR Doc. E9-223 Filed 1-8-09; 8:45 am]

Billing Code: 3510-DS-S